COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities, and deletes products and a service previously furnished by such agencies.

Comments Must Be Received on or Before: 5/16/2011.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Kit, Wiring, ATON Buoy

NSN: 6150-01-040-6848.

NPA: Greenville Rehabilitation Center, Greenville, SC.

Contracting Activity: DEPT OF HOMELAND SECURITY, U.S. COAST GUARD, SFLC PROCUREMENT BRANCH 3, BALTIMORE, MD.

Coverage: C-List for 100% of the requirement of the U.S. Coast Guard, as aggregated by the U.S. Coast Guard.

Neckdam, Chemical, Protective, JPACE, CPC, JC3, Green

NSN: 8415-01-588-2047.

NPA: Peckham Vocational Industries, Inc., Lansing, MI.

Contracting Activity: DEPT OF THE ARMY, W6QK RDECOM CONTR CTR NATICK, MA.

Coverage: C-List for 100% of the requirement of the U.S Army, as aggregated by the Department of the Army Research, Development, & Engineering Command, Natick, MA.

Self-stick, Repositionable Flags

NSN: 7510-01-315-2019—1x1.75, Red.

NSN: 7510-01-315-2020—1x1.75, Green.

NSN: 7510-01-315-2021—1x1.75, Blue.

NSN: 7510-01-315-2022—1x1.75, White.

NSN: 7510-01-315-2023—1x1.75, Orange.

NSN: 7510-01-315-2024—1x1.75, Yellow.

NSN: 7510-01-315-8654—1x1.75, Purple.

NSN: 7510-01-399-1152—1x1.75, Bright Green.

NSN: 7510-01-399-1153—1x1.75, Bright Pink.

NPA: Association for the Blind and Visually Impaired—Goodwill Industries of Greater Rochester, Rochester, NY.

Contracting Activity: GENERAL SERVICES ADMINISTRATION, NEW YORK, NY

Coverage: A-List for the Total Government Requirement as aggregated by the General Services Administration.

Army Retiring Soldier Kit

NSN: 9915-00-NSH-0002.

NPA: South Texas Housing and Community Development Corp., Inc., San Antonio, TX.

Contracting Activity: DEPT OF THE ARMY, MISSION & INSTALLATION. CONTRACTING COMMAND CENTER, FORT SAM HOUSTON, TX.

Coverage: C-List for 100% of the requirement of the Department of the Army, as aggregated by the Mission and Installation Contracting Command Center, Fort Sam Houston, TX.

Services

Service Type/Location: Mail Service, CDC Transshipping Facility, 3719 North Peachtree Rd., Atlanta, GA.

NPA: Tommy Nobis Enterprises, Inc., Marietta, GA.

Contracting Activity: DEPT OF HEALTH AND HUMAN SERVICES/CENTERS FOR DISEASE CONTROL, ATLANTA, GA.

Service Type/Location: Janitorial Service, Schofield Barracks Combat Arms Training and Maintenance Facility, Building SB 2225, Schofield Barracks, HI.

NPA: Opportunities and Resources, Inc., Wahiawa, HI.

Contracting Activity: DEPT OF THE NAVY, NAVFAC ENGINEERING COMMAND HAWAII, PEARL HARBOR, HI.

Service Type/Location: Facility Maintenance, US Military Academy Preparatory School, West Point, NY.

NPA: New Dynamics Corp., Middletown, NY.

Contracting Activity: DEPT OF THE ARMY, XR W6BA ACA WEST POINT, WEST POINT NY.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following products and service are proposed for deletion from the Procurement List:

Products

Scarf, Branch of Service

NSN: 8455-00-405-2294.

NPA: Lions Industries for the Blind, Inc., Kinston, NC.

Contracting Activity: DEFENSE LOGISTICS AGENCY TROOP SUPPORT, PHILADELPHIA, PA.

Calendar Pad, Type 1, 2010

NSN: 7510-01-545-3774.

NPA: The Easter Seal Society of Western Pennsylvania, Pittsburgh, PA.

Contracting Activity: GENERAL SERVICES ADMINISTRATION, NEW YORK, NY.

Slacks, Woman's, Navy—Tropical Blue

NSN: 8410-01-377-9373.

NPAs: Knox County Association for Retarded Citizens, Inc., Vincennes, IN. VGS, Inc., Cleveland, OH.

Contracting Activity: DEFENSE LOGISTICS AGENCY TROOP SUPPORT, PHILADELPHIA, PA.

Services

Service Type/Location: Administrative/General Support Services, GSA: Various Field Offices, GSA Richmond Field Office, Richmond, VA.

NPA: Goodwill Services, Inc, Richmond, VA.

Contracting Activity: GSA/PUBLIC BUILDINGS SERVICE, R03, RICHMOND, VA.

Barry S. Lineback,
Director, Business Operations.

[FR Doc. 2011-9207 Filed 4-14-11; 8:45 am]

BILLING CODE 6353-01-P